DEPARTMENT OF COMMERCE

National Oceanic and Atmospheric Administration

50 CFR Part 622

[Docket No. 150302204-5999-02]

RIN 0648-BE93

Fisheries of the Caribbean, Gulf of Mexico, and South Atlantic; Shrimp Fishery of the Gulf of Mexico; Amendment 15

AGENCY: National Marine Fisheries Service (NMFS), National Oceanic and Atmospheric Administration (NOAA), Commerce.

ACTION: Final rule.

SUMMARY: NMFS issues regulations to implement Amendment 15 to the Fishery Management Plan for the Shrimp Fishery of the Gulf of Mexico (FMP), as prepared and submitted by the Gulf of Mexico (Gulf) Fishery Management Council (Council). This final rule revises the FMP framework procedures to streamline the process for changing certain regulations affecting the shrimp fishery. Additionally, Amendment 15 implements changes to the FMP that revise the maximum sustainable yield (MSY), overfishing threshold, and overfished threshold definitions and values for three species of penaeid shrimp. The purpose of this rule and Amendment 15 is to streamline the management process for Gulf shrimp stocks and to revise criteria for determining the overfished and overfishing status of each penaeid shrimp stock using the best available science.

DATES: This rule is effective December 30, 2015.

ADDRESSES: Electronic copies of Amendment 15, which includes an environmental assessment, a Regulatory Flexibility Act analysis, and a regulatory impact review, may be obtained from the Southeast Regional Office Web site at http://sero.nmfs.noaa.gov/sustainable_fisheries/gulf_fisheries/shrimp/2015/Am%2015/index.html.

FOR FURTHER INFORMATION CONTACT: Susan Gerhart, telephone: 727-824-5305, or email: Susan.Gerhart@noaa.gov.

SUPPLEMENTARY INFORMATION: The shrimp fishery in the Gulf is managed under the FMP. The FMP was prepared by the Council and implemented through regulations at 50 CFR part 622 under the authority of the Magnuson-Stevens Fishery Conservation and Management Act (Magnuson-Stevens Act).

On August 12, 2015, NMFS published a notice of availability for Amendment 15 and requested public comment (80 FR 48285). On August 25, NMFS published a proposed rule for Amendment 15 and requested public comment (80 FR 51523). The proposed rule and Amendment 15 outline the rationale for the actions contained in this final rule. A summary of the actions implemented by Amendment 15 and this final rule is provided below.

Management Measure Contained in This Final Rule

This final rule revises the FMP framework procedures at 50 CFR 622.60(a) and (b) to allow for modification of accountability measures under the standard documentation process of the open framework procedure. Also, this final rule removes outdated terminology from the regulations, such as “total allowable catch,” and removes the phrase “transfer at sea provisions” from the list of framework procedures because this phrase was inadvertently included in the final rule for the Generic Annual Catch Limits and Accountability Measures Amendment (76 FR 82044, December 29, 2011). The transfer at sea text was never intended by the Council to be included in the list of framework procedures when they were revised in 2011, but were included as a result of an error by NMFS during that rulemaking.

Additional Measures Contained in Amendment 15

Amendment 15 also contains actions that are not being codified in the regulations, but guide the Council and NMFS in establishing other management measures, which are codified. Amendment 15 revises the MSY, the overfishing threshold, and the overfished threshold definitions and values for penaeid shrimp stocks (brown, white, and pink shrimp).

The criteria and values for MSY, the overfishing threshold, and the overfished threshold for penaeid shrimp were established in Amendment 13 to the FMP (71 FR 56039, September 26, 2006). Historically, Gulf penaeid shrimp stocks were assessed with a virtual population analysis (VPA), which reported output in terms of number of parents. However, the 2007 pink shrimp stock assessment VPA incorrectly determined that pink shrimp were undergoing overfishing because the model could not accommodate low effort. In 2009, NMFS stock assessment analysts determined that the stock synthesis model was the best choice for modeling Gulf shrimp populations. Amendment 15 modifies stock status determination criteria to match the biomass-based output of the stock synthesis model. These revisions to the penaeid shrimp stock status criteria are expected to cause little to no change to the biological, physical, or ecological environments because these changes are only to the stock status reference points and therefore will not have a direct impact on the actual harvest of penaeid shrimp.

Comments and Responses

No substantive comments were received on either Amendment 15 or the proposed rule. One comment was received from a Federal agency that stated that it had no comment on the proposed rule or on Amendment 15.

Classification

The Regional Administrator, Southeast Region, NMFS has determined that this final rule is consistent with Amendment 15, the FMP, the Magnuson-Stevens Act, and other applicable law. This final rule has been determined to be not significant for purposes of Executive Order 12866.

The Magnuson-Stevens Act provides the statutory basis for this rule. No duplicative, overlapping, or conflicting Federal rules have been identified. In addition, no new reporting, record-keeping, or other compliance requirements are introduced by this final rule.

The Chief Counsel for Regulation of the Department of Commerce certified to the Chief Counsel for Advocacy of the Small Business Administration during the proposed rule stage that this rule would not have a significant economic impact on a substantial number of small entities. The factual basis for this determination was published in the proposed rule and is not repeated here. No comments were received regarding the certification and NMFS has not received any new information that would affect its determination. As a result, a final regulatory flexibility analysis is not required and none was prepared.

List of Subjects in 50 CFR Part 622

Fisheries, Fishing, Gulf of Mexico, Shrimp.

Dated: November 23, 2015.
Eileen Sobeck,
Assistant Administrator for Fisheries, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.60, revise paragraphs (a) and (b) to read as follows:

§ 622.60 Adjustment of management measures.

* * * * *

(a) Gulf penaeid shrimp. For a species or species group: Reporting and monitoring requirements, permitting requirements, size limits, vessel trip limits, closed seasons or areas and reopenings, quotas (including a quota of zero), MSY (or proxy), OY, management parameters such as overfished and overfishing definitions, gear restrictions (ranging from regulation to complete prohibition), gear markings and identification, vessel markings and identification, allowable biological catch (ABC) and ABC control rules, rebuilding plans, restrictions relative to conditions of harvested shrimp (maintaining shrimp in whole condition, use as bait), target effort and fishing mortality reduction levels, bycatch reduction criteria, BRD certification and decertification criteria, BRD testing protocol and certified BRD specifications.

(b) Gulf royal red shrimp. Reporting and monitoring requirements, permitting requirements, size limits, vessel trip limits, closed seasons or areas and reopenings, annual catch limits (ACLs), annual catch targets (ACTs), quotas (including a quota of zero), accountability measures (AMs), MSY (or proxy), OY, management parameters such as overfished and overfishing definitions, gear restrictions (ranging from regulation to complete prohibition), gear markings and identification, vessel markings and identification, ABC and ABC control rules, rebuilding plans, and restrictions relative to conditions of harvested shrimp (maintaining shrimp in whole condition, use as bait).

[FR Doc. 2015-30214 Filed 11-27-15; 8:45 am]

BILLING CODE 3510-22-P